DEPARTMENT OF AGRICULTURE

Forest Service

2003 Record of Decision on the Woodpecker Project Area Final Environmental Impact Statement

AGENCY: Forest Service, USDA.

ACTION: Notice; record of decision.

SUMMARY: The USDA Forest Service, Tongass National Forest, has prepared the 2003 Record of Decision for the Woodpecker Project Area. The project area is located within the Petersburg Ranger District, on Mitkof Island, about 27 miles south of Petersburg, Alaska. Forrest Cole, Forest Supervisor for the Tongass National Forest, has selected the activities from Alternative 6 of the Final Environmental Impact Statement (Final EIS, August 2001) that were not included in the 2002 Record of Decision (signed December 24, 2002). The 2003 decision includes: (a) Harvest of approximately 10.9 million board feet of timber from approximately 900 acres, (b) construction of approximately 4.8 miles of new classified road, and (c) construction of approximately 1.3 miles of temporary road. An existing log transfer facility will be used.

DATES: The legal notice of this decision will be published in the Juneau Empire, the newspaper of record, published in Juneau, Alaska, on November 24, 2003. This will begin the 45-day appeal period, which will close on Thursday, January 8, 2004. This decision may be implemented no sooner than 5 business days after close of the appeal period, if no appeal is received. If an appeal is received, this decision may be implemented no sooner than 15 days following disposition of the appeal.

ADDRESSES: Requests for copies of the Record of Decision or Final EIS may be directed to: Linda Slaght, Petersburg Ranger District, P.O. Box 1328, Petersburg, Alaska 99833, Phone (907) 772-3871; fax (907) 772-5995; or E-mail lslaght@fs.fed.us. The Responsible Official is Forrest Cole, Forest Supervisor, Tongass National Forest, 648 Mission Street, Ketchikan, AK 99901. The Regional Forester is the Appeal Deciding Officer. Written notices of appeal must be addressed to: Regional Forester, Alaska Region, USDA, Forest Service, P.O. Box 21628, Juneau, AK 99802-1628.

FOR FURTHER INFORMATION CONTACT: Requests for further information concerning the Final EIS or the Record(s) of Decision may be directed to Patricia Grantham, District Ranger, or Linda Slaght, Writer/Editor, Petersburg Ranger District, 907-772-3871. Copies of the 2003 Record of Decision have been mailed directly to those people who requested to be on the project mailing list. Additional copies may be obtained from the Petersburg Ranger District or reviewed at public libraries throughout southeast Alaska. The 2003 Record of Decision is also posted on the Tongass National Forest Web site at http://www.fs.fed.us/rl0/tongass.

SUPPLEMENTARY INFORMATION:

Background: The Forest Supervisor for the Tongass National Forest signed a Record of Decision for the Woodpecker Project Area on December 24, 2002. No appeals were received and the Decision is being implemented. All of the activities approved by the 2002 Decision were outside roadless areas, in compliance with an order issued by the U.S. District Court, District of Alaska, in Sierra Club v. Rey (J00-0009 CV (JKS)) on April 26, 2002. That order enjoined the Forest Service from permitting timber harvest and road building in roadless areas until the completion of the final supplemental environmental impact statement (SEIS) for the Tongass National Forest Land and Resource Management Plan (Forest Plan). The SEIS was signed on February 24, 2003, and the injunction was lifted.

The Woodpecker Project Area is partly within the Crystal Inventoried Roadless Area on the Tongass National Forest. The Roadless Area Conservation Rule (Roadless Rule, 36 CFR 294.10, January 12, 2001) generally prohibits timber harvesting and road building in roadless areas with a period of transition for the Tongass. This transition period makes an exception for projects where a notice of availability for a draft environmental impact statement was published prior to January 12, 2001. Since the notice of availability for the Woodpecker project was published on August 18, 2000, this project is exempted from the prohibitions in the Roadless Rule. The Woodpecker project is consistent with the Forest Plan and the Forest Plan SEIS.

This decision is subject to administrative review (appeal) pursuant to 36 CFR part 215. The legal notice of this decision will be published in the Juneau Empire, the newspaper of record, published in Juneau, Alaska, on November 24, 2003, which will start the 45-day appeal period. A written notice of appeal that includes sufficient evidence of why this decision should be changed and requirements of 36 CFR part 215 must be postmarked by the last day of the appeal period and filed with the Appeal Deciding Officer: Regional Forester, Alaska Region, USDA Forest Service, P.O. Box 21628, Juneau, AK 99802-1628.

Responsible Official: Forrest Cole, Forest Supervisor, Tongass National Forest, Federal Building, Ketchikan, Alaska 99901, is the responsible official.

(Authority: 40 CFR 1505.2 and 1506.6; Forest Service Handbook 1909.15, Section 28)
Dated: November 13, 2003.
Forrest Cole,
Forest Supervisor.

[FR Doc. 03-28970 Filed 11-19-03; 8:45 am]

BILLING CODE 3410-11-M